NATIONAL SCIENCE FOUNDATION

Proposal Review Panel for Chemistry; Notice of Meeting

In accordance with the Federal Advisory Committee Act (Pub. L. 92-463, as amended), the National Science Foundation announces the following meeting:

Name: Centers for Chemical Evolution (CCE) Site Visit 2012 Site Visit, #1191.

Date and Time: Wednesday, May 9, 2012 (7 p.m.-9:15 p.m.); Thursday, May 10, 2012 (8 a.m.-5 p.m.); Friday, May 11, 2012 (8 a.m.-2 p.m.)

Place: Georgia Institute of Technology Hotel, Atlanta, GA.

Type of Meeting: Partially-Open.

Contact Person: Katharine Covert, Program Director, National Science Foundation, 4201 Wilson Blvd., Arlington, VA, 703-292-4950.

Purpose of Meeting: To provide advice and recommendations concerning center proposals submitted to NSF for financial support.

Agenda:

Wednesday, May 9, 2012

7:30 p.m.-9:15 p.m. Executive Session (Closed).

Thursday, May 10, 2012

8 a.m.-12 p.m. Welcome & CCE Presentations of research and integrative elements (Open).

12 p.m.-1:15p.m. Executive Session (Closed).

1:15p.m.-4:15p.m. CCE Presentations of research and integrative elements (Open).

4:15p.m.-5 p.m. Executive Session (Closed).

Friday, May 11, 2012

8 a.m.-8:30 a.m. Welcome and Opening Session (Open).

8:30 a.m.-9 a.m. Executive Session (Closed).

9 a.m.-10:30 a.m. Panel meets with CCE Leadership (Open).

10:30 a.m.-2 p.m. Executive Session (Closed).

Reason for Closing: The meeting is closed to the public because the Site Visitors will be reviewing proposal actions that will include privileged intellectual property and personal information that could harm individuals if they were disclosed. If discussions were open to the public, these matters that are exempt under 5 U.S.C. 552b(c)(4) and (6) of the Government Sunshine Act would be improperly disclosed.

Dated: April 10, 2012.
Susanne Bolton,
Committee Management Officer.

[FR Doc. 2012-8962 Filed 4-13-12; 8:45 am]

BILLING CODE 7555-01-P